DEPARTMENT OF COMMERCE

International Trade Administration

University of Minnesota; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 02-028. Applicant: University of Minnesota, Minneapolis, MN 55455. Instrument: High-Pressure/High-Temperature Materials Testing Apparatus with Torsion Module. Manufacturer: Australian Scientific Instruments Pty Ltd, Australia. Intended Use: See notice at 67 FR 47524, July 19, 2002.

Comments: None received. Decision: Approved. No instrument of equivalent scientific value to the foreign instrument, for such purposes as it is intended to be used, is being manufactured in the United States. Reasons: The foreign instrument provides a unique combination of high pressure (700 MPa), high temperature (1650° K) and both compressive and torsional deformation with high stress and displacement resolution for geophysical study of rocks. A university research laboratory advised September 10, 2002 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-24006 Filed 9-19-02; 8:45 am]

BILLING CODE 3510-DS-P